NATIONAL TRANSPORTATION SAFETY BOARD

Sunshine Act Meeting Notice

Agenda

Time and Date: 9:30 a.m., Thursday, January 21, 2010.

Place: NTSB Conference Center, 429 L'Enfant Plaza, SW., Washington, DC 20594.

Status: The one item is open to the public.

Matter To Be Considered

8175 Railroad Accident Report—Collision of Metrolink Train 111 with Union Pacific Freight Train LOF62-12, Chatsworth, California, September 12, 2008. (DCA-08-MR-009).

News Media Contact: Telephone: (202) 314-6100.

The press and public may enter the NTSB Conference Center one hour prior to the meeting for set up and seating.

Individuals requesting specific accommodations should contact Rochelle Hall at (202) 314-6305 by Friday, January 15, 2010.

The public may view the meeting via a live or archived webcast by accessing a link under “News & Events” on the NTSB home page at http://www.ntsb.gov.

FOR MORE INFORMATION CONTACT: Candi Bing, (202) 314-6403.

Dated: December 31, 2009.
Candi R. Bing,
Federal Register Liaison Officer.

[FR Doc. E9-31413 Filed 1-4-10; 4:15 pm]

BILLING CODE 7533-01-P